DEPARTMENT OF HOUSING AND URBAN DEVELOPMENT

[Docket No. FR-5187-N-76]

Study of Capital Needs in the Public Housing Program

AGENCY: Office of the Chief Information Officer, HUD.

ACTION: Notice.

SUMMARY: The proposed information collection requirement described below has been submitted to the Office of Management and Budget (OMB) for review, as required by the Paperwork Reduction Act. The Department is soliciting public comments on the subject proposal.

Survey a statistically significant sample of housing authorities and a set of public housing developments, buildings and units, using instruments that include systems inspection coding and information, costs, and modernization and conversion actions. Using these instruments, the study will generate estimates in constant dollars of existing and accrued total and per-unit capital needs at the national level and for important subcategories such as HA size (measured by number of ACC units) and region. The sample and data instruments shall enable statistically significant comparison with results from the 1998 capital needs study. The Study responds to a Congressional mandate.

DATES: Comments Due Date: January 22, 2008.

ADDRESSES: Interested persons are invited to submit comments regarding this proposal. Comments should refer to the proposal by name and/or OMB approval Number (2577-NEW) and should be sent to: HUD Desk Officer, Office of Management and Budget, New Executive Office Building, Washington, DC 20503; fax: 202-395-6974.

FOR FURTHER INFORMATION CONTACT: Lillian Deitzer, Reports Management Officer, QDAM, Department of Housing and Urban Development, 451 Seventh Street, SW., Washington, DC 20410; e-mail Lillian Deitzer at Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Study of Capital Needs in the Public Housing Program.

OMB Approval Number: 2577-NEW.

Form Numbers: None.

Description of the Need for the Information and Its Proposed Use: Survey a statistically significant sample of housing authorities and a set of public housing developments, buildings and units, using instruments that include systems inspection coding and information, costs, and modernization and conversion actions. Using these instruments, the study will generate estimates in constant dollars of existing and accrued total and per-unit capital needs at the national level and for important subcategories such as HA size (measured by number of ACC units) and region. The sample and data instruments shall enable statistically significant comparison with results from the 1998 capital needs study. The Study responds to a Congressional mandate.

Frequency of Submission: Other one-time.

| Number of respondents | Annual responses | × | Hours per response | = | Burden hours
Reporting Burden | 970 | 1 |  | 4.97 |  | 4,820

Total Estimated Burden Hours: 4,820.

Status: New Collection.

Authority: Section 3507 of the Paperwork Reduction Act of 1995, 44 U.S.C. 35, as amended.

Dated: December 16, 2008.
Lillian L. Deitzer,
Departmental Paperwork Reduction Act Officer, Office of the Chief Information Officer.

[FR Doc. E8-30463 Filed 12-22-08; 8:45 am]

BILLING CODE 4210-67-P